DEPARTMENT OF JUSTICE

Drug Enforcement Administration

Stephen K. Jones, M.D.; Decision and Order

On February 6, 2023, the Drug Enforcement Administration (DEA or Government) issued an Order to Show Cause (OSC) to Stephen K. Jones, M.D. (Respondent). Request for Final Agency Action (RFAA), Exhibit (RFAAX) 1, at 1, 3. The OSC proposed the revocation of Respondent's Certificate of Registration No. FJ1057430 at the registered address of 420 West 1500 South, Suite 100, Bountiful, Utah 84010. Id. at 1. The OSC alleged that Respondent's registration should be revoked because Respondent is “currently without authority to handle controlled substances in the State of Utah, the state in which [he is] registered with DEA.” Id. at 2 (citing 21 U.S.C. 824(a)(3)).

The OSC notified Respondent that if Respondent “request[ed] a hearing and fail[ed] to timely file an answer, plead, or otherwise defend, . . . [Respondent] shall be deemed to have waived the right to a hearing and to be in default.” Id. at 2. Here, Respondent made some attempt to request a hearing,¹ see RFAAX 3, but repeatedly failed to file an answer, see RFAAX 4-6. Ultimately the Administrative Law Judge determined that Respondent was in default and issued an Order Terminating Proceedings. See RFAAX 7. “A default, unless excused, shall be deemed to constitute a waiver of the registrant's/applicant's right to a hearing and an admission of the factual allegations of the order to show cause.” 21 CFR 1301.43(e).

¹ Based on the Government's submissions, the Agency finds that service of the OSC was adequate. The “Government Notice of Service of Order to Show Cause” asserts that Respondent was personally served with the OSC on February 14, 2023; moreover, Respondent timely responded to the OSC via email on February 20, 2023. RFAAX 7, at 1; RFAAX 3. Though Respondent's email did not follow the format required to request a hearing, it did clearly state “February 20, 2023: Hearing Requested.” RFAAX 3, at 2; see also 21 CFR 1316.47. The email “provide[d] [Respondent's] perspective of events,” but did not admit, deny, or otherwise answer the factual allegations in the OSC. Id., at 1; see also 21 CFR 1301.37(d)(3).

Under 21 CFR 1301.43(f)(1), where “the presiding officer has issued an order terminating the proceeding . . . , DEA may then file a request for final agency action with the Administrator, along with a record to support its request. In such circumstances, the Administrator may enter a default final order pursuant to § 1316.67 of this chapter.” Here, the Government has requested final agency action based on Respondent's default pursuant to 21 CFR 1301.43(c), (f). See also id. at § 1316.67.

Findings of Fact

The Agency finds that, in light of Respondent's default, the factual allegations in the OSC are admitted. According to the OSC, on or about January 12, 2023, the Division of Professional Licensing of the Department of Commerce of the State of Utah issued an Amended Order of Adjudication suspending Respondent's license to practice as a physician and to administer controlled substances. RFAAX 1, at 2.

According to Utah's online records, of which the Agency takes official notice, both Respondent's Utah physician license and Respondent's Utah controlled substance license are suspended.² Utah Division of Occupational and Professional Licensing, Licensee Lookup & Verification System, https://secure.utah.gov/llv/search/index.html (last visited date of signature of this Order). Accordingly, the Agency finds that Respondent is not authorized to practice medicine nor to handle controlled substances in Utah, the state in which he is registered with the DEA.

² Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Respondent may dispute the Agency's finding by filing a properly supported motion for reconsideration of findings of fact within fifteen calendar days of the date of this Order. Any such motion and response shall be filed and served by email to the other party and to the DEA Office of the Administrator, Drug Enforcement Administration at dea.addo.attorneys@dea.gov.

Discussion

Pursuant to 21 U.S.C. 824(a)(3), the Attorney General is authorized to suspend or revoke a registration issued under section 823 of the Controlled Substances Act (CSA) “upon a finding that the registrant . . . has had his State license or registration suspended . . . [or] revoked . . . by competent State authority and is no longer authorized by State law to engage in the . . . dispensing of controlled substances.” With respect to a practitioner, the DEA has also long held that the possession of authority to dispense controlled substances under the laws of the state in which a practitioner engages in professional practice is a fundamental condition for obtaining and maintaining a practitioner's registration. See, e.g., James L. Hooper, M.D., 76 FR 71371 (2011), pet. for rev. denied, 481 F. App'x 826 (4th Cir. 2012); Frederick Marsh Blanton, M.D., 43 FR 27616, 27,617 (1978).³

³ This rule derives from the text of two provisions of the CSA. First, Congress defined the term “practitioner” to mean “a physician . . . or other person licensed, registered, or otherwise permitted, by . . . the jurisdiction in which he practices . . . , to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1) (this section, formerly section 823(f), was redesignated as part of the Medical Marijuana and Cannabidiol Research Expansion Act, Pub. L. 117-215, 136 Stat. 2257 (2022)). Because Congress has clearly mandated that a practitioner possess state authority in order to be deemed a practitioner under the CSA, the DEA has held repeatedly that revocation of a practitioner's registration is the appropriate sanction whenever he is no longer authorized to dispense controlled substances under the laws of the state in which he practices. See, e.g., James L. Hooper, 76 FR 71371-72; Sheran Arden Yeates, M.D., 71 FR 39130, 39131 (2006); Dominick A. Ricci, M.D., 58 FR 51104, 51105 (1993); Bobby Watts, M.D., 53 FR 11919, 11920 (1988); Frederick Marsh Blanton, 43 FR 27617.

Under the Utah Controlled Substances Act, “[e]very person who manufactures, produces, distributes, prescribes, dispenses, administers, conducts research with, or performs laboratory analysis upon any controlled substance in Schedules I through V within [the] state . . . shall obtain a license issued by the [Division of Professional Licensing].” Utah Code Ann. section 58-37-6(2)(a)(i) (2022). Here, the admitted evidence in the record is that both Respondent's Utah physician license and Respondent's Utah controlled substance license are suspended. As such, Respondent is not authorized to handle controlled substances in Utah and thus is not eligible to maintain a DEA registration. Accordingly, the Agency will order that Respondent's DEA registration be revoked.

Order

Pursuant to 28 CFR 0.100(b) and the authority vested in me by 21 U.S.C. 824(a), I hereby revoke DEA Certificate of Registration No. FJ1057430 issued to Stephen K. Jones, M.D. Further, pursuant to 28 CFR 0.100(b) and the authority vested in me by 21 U.S.C. 823(g)(1), I hereby deny any pending applications of Stephen K. Jones, M.D., to renew or modify this registration, as well as any other pending application of Stephen K. Jones, M.D., for additional registration in Utah. This Order is effective September 13, 2023

Signing Authority

This document of the Drug Enforcement Administration was signed on August 7, 2023, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer Drug Enforcement Administration.

[FR Doc. 2023-17385 Filed 8-11-23; 8:45 am]

BILLING CODE 4410-09-P